DEPARTMENT OF ENERGY

Federal Energy Regulatory Commission

[Docket Nos. EL00-95-000, et al.]

Notice of Filing of Offer of Settlement and Motion To Intervene Out-of-Time

October 15, 2001.

San Diego Gas & Electric Company, Complainant v. Sellers of Energy and Ancillary Service Into Markets Operated by the California Independent System Operator Corporation and the California Power Exchange Corporation, Respondents.

Investigation of Practices of the California Independent System Operator and the California Power Exchange; Coral Power, L.L.C., Enron Power Marketing, Inc., Arizona Public Service Company, Cargill Alliant,LLC, San Diego Gas & Electric Company, Avista Energy, Inc.,Sempra Energy Trading Corp., PacifiCorp, and Constellation Power Source v. California Power Exchange Corporation; Salt River Project Agricultural Improvement and Power District and Sacramento Municipal Utility District v. California Power Exchange Corporation, Public Service Company of New Mexico v. California Power Exchange Corporation.

On October 5, 2001, the Official Committee of Participant Creditors (the Committee) of the California Power Exchange Corporation (CalPX) filed, under the provisions of Rule 602(d)(2) of the Commission's Rules of Practice and Procedure, an Offer of Settlement of Issues Affecting the California Power Exchange Corporation. The Offer of Settlement, among other things, proposes a methodology to account for the nonpayments by Pacific Gas & Electric Company and Southern California Edison Company and their impact on CalPX, the California Independent System Operator Corporation (CalISO), and participants in CalPX and CalISO markets. The Committee's filing also includes a motion to intervene out-of-time in Docket Nos. EL0-95-000 and EL00-98-000 and all related subdockets. The Committee also moves to intervene out-of-time in three proceedings relating to accounting issues under CalPX's tariff: EL01-36-000, EL01-37-000, and EL01-43-000.

The Committee also requests expedited consideration and approval of the Offer of Settlement, but has not requested a shortened comment period. Therefore, pursuant to Rule 602(f)(2) of the Commission's Rules of Practice and Procedure, comments on the Offer of Settlement are to filed on or before October 25, 2001. Reply comments shall be filed on or before November 5, 2001. Pursuant to Rule 213(d)(1) of the Commission's Rules of Practice and Procedure, any answers to the Committee's motion to intervene out-of-time shall be filed on or before October 20, 2001.

David P. Boergers,
Secretary.

[FR Doc. 01-26492 Filed 10-19-01; 8:45 am]

BILLING CODE 6717-01-P